DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9:00 a.m., on the dates specified: The plat representing the dependent resurvey of a portion of the subdivisional lines, and the subdivision of section 25, T. 1 N., R. 5 W., Boise Meridian, Idaho, Group Number 1048, was accepted July 12, 2000. The plat was prepared to meet certain administrative needs of the Bureau of Land Management. The field notes representing the correction of a portion of Mineral Survey Number 3683, Volume M-167, page 225, T. 12 N., R. 37 E., Boise Meridian, Idaho, was accepted July 27, 2000. The field notes were prepared to meet certain administrative needs of the Bureau of Land Management.

The plat representing the entire survey record for the dependent resurvey of a portion of the south boundary and subdivisional lines, and the subdivision of section 33, T. 9 S., R. 2 E., Boise Meridian, Idaho, Group Number 1074, was accepted September 1, 2000. The plat was prepared to meet certain administrative needs of the Bureau of Land Management.

The plat representing the entire survey record for the dependent resurvey of a portion of the subdivisional lines, and the subdivision of section 4, T. 10 S., R. 2 E., Boise Meridian, Idaho, Group Number 1076, was accepted September 1, 2000. The plat was prepared to meet certain administrative needs of the Bureau of Land Management.

A supplemental plat was prepared to identify various lands included in Mineral Patent Application IDI29690, in section 34, T. 7 S., R. 40 E., Boise Meridian, Idaho, accepted September 12, 2000. The plat was prepared to meet certain administrative needs of the Bureau of Land Management.

The plat representing the dependent resurvey of portions of the subdivisional lines, of canceled Mineral Survey No. 2806, and the segregation surveys of the Grey Eagle, Big Blue Bird, Golden Chest, Ruby, and the Golden Wedge Lodes, and the subdivision of sections 13, 14, and 23, T. 40 N., R. 1 E., Boise Meridian, Idaho, Group Number 1039, was accepted September 21, 2000. The plat was prepared to meet certain administrative needs of the U.S. Fish and Wildlife Service.

The plat representing the dependent resurvey of a portion of the north boundary and a portion of the subdivisional lines, and a metes-and-bounds survey in section 6, T. 44 N., R. 5 W., Boise Meridian, Idaho, Group Number 1071, was accepted September 21, 2000. The plat was prepared to meet certain administrative needs of the Bureau of Indian Affairs.

The plat representing the dependent resurvey of a portion of the subdivisional lines and a portion of the subdivision of section 18, and a metes-and-bounds survey within section 18, T. 44 N., R. 4 W., Boise Meridian, Idaho, Group Number 1079, was accepted September 28, 2000. The plat was prepared to meet certain administrative needs of the Bureau of Indian Affairs. The plat representing the dependent resurvey of portions of the second standard parallel south (south boundary), north and west boundaries, and of the subdivision of sections 5, 6, 28, 29, and 32, T. 12 S., R. 21 E., Boise Meridian, Idaho, Group Number 1040, was accepted September 29, 2000. The plat was prepared to meet certain administrative needs of the Bureau of Land Management.

FOR FURTHER INFORMATION CONTACT: Duane Olsen, Chief, Cadastral Survey, Idaho State Office, Bureau of Land Management, 1387 South Vinnell Way, Boise, Idaho, 83709-1657, 208-373-3980.

Dated: October 3, 2000.
Duane E. Olsen,
Chief, Cadastral Surveyor for Idaho.

[FR Doc. 00-26426 Filed 10-30-00; 8:45 am]

BILLING CODE 4310-GG-P